DEPARTMENT OF AGRICULTURE

Agricultural Marketing Service

[Doc. No. AMS-FV-09-0023]

Notice of Request for Extension and Revision of a Currently Approved Information Collection

AGENCY: Agricultural Marketing Service, USDA.

ACTION: Notice with request for comments.

SUMMARY: In accordance with the Paperwork Reduction Act of 1995 (44 U.S.C. Chapter 35), this notice announces the Agricultural Marketing Service's (AMS) intention to request approval, from the Office of Management and Budget, for an extension of and revision to the currently approved information collection Specialty Crop Block Grant Program.

DATES: Comments on this notice must be received by July 21, 2009 to be assured of consideration.

Additional Information or Comments: Contact Docket Clerk, Fruit and Vegetable Programs, Agricultural Marketing Service, U.S. Department of Agriculture, Stop 0235, 1400 Independence Avenue, SW., Washington, DC 20250-0243; Fax: (202) 720-0016; or E-mail: scblockgrants@usda.gov.

SUPPLEMENTARY INFORMATION: Title: Specialty Crop Block Grant Program.

OMB Number: 0581-0239.

Expiration Date of Approval: 3 years from date of OMB approval.

Type of Request: Extension and revision of a currently approved information collection.

Abstract: The information collection requirements in this request are applied only to those State departments of agriculture who voluntarily participate in the Specialty Crop Block Grant Program (SCBGP). The information collected is needed to certify that grant participants are complying with applicable program regulations. Data collected is the minimum information necessary to effectively carry out the requirements of the program, and to fulfill the intent of Section 101 of the Specialty Crops Competitiveness Act of 2004, Public Law 108-465 (Dec. 21, 2004).

The Specialty Crops Competitiveness Act of 2004 authorized the Secretary of Agriculture to make grants to States (at the time, defined to mean the 50 States, the District of Columbia, and the Commonwealth of Puerto Rico) for each of the fiscal years 2005 through 2009 to be used by State departments of agriculture solely to enhance the competitiveness of specialty crops. The program was appropriated funding in fiscal years 2006 through 2008. These grant funds were previously applied for and awarded to eligible State departments of agriculture. Therefore, State departments of agriculture can no longer apply for grants under the program. However, the program is still in effect because grant periods can be up to three years in length and currently, State departments of agriculture are reporting on previously awarded grants. This program, SCBGP, is separate from the Specialty Crop Block Grant Program-Farm Bill (SCBGP-FB), program.

A State department of agriculture participating in the SCBGP would have to submit a Request for Grant Amendment to AMS if there is a change in key personnel, scope or objectives of the grant, budget changes that exceed more than 20% of a project's total budget, and/or or an extension of the grant period not to exceed three calendar years.

Estimate of Burden: Public reporting burden for this collection of information is estimated to average 0.50 hours per response.

Respondents: State departments of agriculture.

Estimated Number of Respondents: 25.

Estimated Number of Responses: 25.

Estimated Number of Responses per Respondent: 1.

Estimated Total Annual Burden on Respondents: 12.50 hours.

A State department of agriculture participating in the SCBGP is required to submit an Annual Performance Report to AMS 90 days after the completion of the first year of the grant period and once within 90 days after the second year of the grant period.

Estimate of Burden: Public reporting burden for this collection of information is estimated to average 1 hour per response.

Respondents: State departments of agriculture.

Estimated Number of Respondents: 52 (All 50 states, Puerto Rico, and the District of Columbia).

Estimated Number of Responses: 52.

Estimated Number of Responses per Respondent: 2.

Estimated Total Annual Burden on Respondents: 104 hours.

A State department of agriculture participating in the SCBGP is required to submit to AMS 90 days after the expiration date of the grant period SF269 “Financial Status Report (Long Form)”, if the project had program income, approved under OMB#0348-0039, or SF269A “Financial Status Report (Short Form)”, approved under OMB#0348-0038.

A State department of agriculture participating in the SCBGP is required to submit a Final Performance Report to AMS within 90 days following the expiration date of the grant period.

Estimate of Burden: Public reporting burden for this collection of information is estimated to average 1.5 hours per response.

Respondents: State departments of agriculture.

Estimated Number of Respondents: 52 (All 50 states, Puerto Rico, and the District of Columbia).

Estimated Number of Responses: 52.

Estimated Number of Responses per Respondent: 1.

Estimated Total Annual Burden on Respondents: 78 hours.

No later than 30 days after completion of an audit on all grant expenditures, the State is required to submit an audit report/executive summary to AMS.

Estimate of Burden: Public reporting burden for this collection of information is estimated to average 3 hours per response.

Respondents: State departments of agriculture.

Estimated Number of Respondents: 52 (All 50 states, Puerto Rico, and the District of Columbia).

Estimated Number of Responses: 52.

Estimated Number of Responses per Respondent: 1.

Estimated Total Annual Burden on Respondents: 156 hours.

The SCBGP is expected to accomplish the goals of enhancing the competitiveness of specialty crops.

This program would not be maintained by any other agency; therefore, the requested information will not be available from any other existing records.

AMS is committed to compliance with the Government Paperwork Elimination Act (GPEA), which requires Government agencies in general to provide the public the option of submitting information or transacting business electronically to the maximum extent possible. The request for grant amendment, annual performance reports, final performance report, SF269 “Financial Status Report (Long Form)”, or the SF269A “Financial Status Report (Short Form)”, and the audit report/executive summary can be submitted electronically.

Finally, State departments of agriculture would be required to retain records pertaining to the SCBGP for 3 years after completion of the grant period or until final resolution of any audit findings or litigation claims relating to the SCBGP. This is a part of normal business practice and consistent with USDA regulations (7 CFR Parts 3015 and 3016).

The estimated one-time cost for all State departments of agriculture in providing this information to the SCBGP is $9,048. This total has been estimated by multiplying 351 total burden hours by $25.78, an average of mean hourly earnings by state and local government white collar (excluding sales) employees. Data for computation of this hourly wage were obtained from the U.S. Department of Labor Statistic's publication “National Compensation Survey: Occupational Wages in the United States, June 2005”, published August 2006 (Bulletin 2581). This publication can also be found at the following Web site: http://www.bls.gov/ncs/ocs/sp/ncbl0832.pdf.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to: Docket Clerk, Fruit and Vegetable Programs, Agricultural Marketing Service, U.S. Department of Agriculture, Stop 0235, 1400 Independence Avenue, SW., Washington, DC 20250-0243; Fax: (202) 720-0016; or E-mail: scblockgrants@usda.gov. All comments received will be available for public inspection during regular business hours at the same address.

All responses to this notice will be summarized and included in the request for OMB approval. All comments will become a matter of public record.

Dated: May 18, 2009.
Robert C. Keeney,
Acting Associate Administrator.

[FR Doc. E9-11969 Filed 5-21-09; 8:45 am]

BILLING CODE 3410-02-P